BUREAU OF CONSUMER FINANCIAL PROTECTION

[Docket No CFPB-2013-0019]

Agency Information Collection Activities: Submission for OMB Review; Comment Request

AGENCY: Bureau of Consumer Financial Protection.

ACTION: Notice and request for comment.

SUMMARY: In accordance with the Paperwork Reduction Act of 1995 (PRA), the Consumer Financial Protection Bureau (Bureau) is proposing a new information collection titled, “Program Evaluation of Financial Empowerment Training Programs.”

DATES: Written comments are encouraged and must be received on or before August 1, 2013 to be assured of consideration.

ADDRESSES: You may submit comments, identified by the title of the information collection, OMB Control Number (see below), and docket number (see above), by any of the following methods:

• Electronic: http://www.regulations.gov. Follow the instructions for submitting comments.

• Mail/Hand Delivery/Courier: Consumer Financial Protection Bureau (Attention: PRA Office), 1700 G Street NW., Washington, DC 20552.

Please note that comments submitted by fax or email and those submitted after the comment period will not be accepted. In general, all comments received will be posted without change to regulations.gov, including any personal information provided. Sensitive personal information, such as account numbers or social security numbers, should not be included.

FOR FURTHER INFORMATION CONTACT: Documentation prepared in support of this information collection request is available at www.reginfo.gov. Requests for additional information should be directed to the Consumer Financial Protection Bureau, (Attention: PRA Office), 1700 G Street NW., Washington, DC 20552, (202) 435-9575, or email: PRA@cfpb.gov. Please do not submit comments to this email box.

SUPPLEMENTARY INFORMATION:

Title of Collection: Program Evaluation of Financial Empowerment Training Programs.

OMB Control Number: 3170-XXXX.

Type of Review: New collection (Request for a new OMB control number).

Affected Public: 55 pilot trainers and 880 case managers (financial empowerment professionals who participate in Bureau-sponsored training workshops).

Estimated Number of Respondents: 935.

Estimated Total Annual Burden Hours: 703.

Abstract: The Bureau's Office of Financial Empowerment (Empowerment) is responsible for developing strategies to improve the financial capability of low income and economically vulnerable consumers. The proposed collections will focus on evaluating (1) training practices and programs that are designed to enhance the ability of caseworkers to inform and educate low income consumers about managing their finances and strategies for making choices among available financial products and services available to them; (2) the evaluation tool that the trainers will use to determine the effectiveness of the training; and (3) the scope of workshop participants' use of the training. The Bureau expects to collect qualitative data through paper-based surveys and focus groups. The information collected through qualitative evaluation methods will increase the Bureau's understanding of what elements of training programs and practices can improve caseworker interaction with and assistance to their clients in ways that can improve outcomes for consumers, particularly those who have low incomes.

Request For Comments: The Bureau issued a 60-day Federal Register notice on January 29, 2013, (78 FR 6074). Comments were solicited and continue to be invited on: (a) Whether the collection of information is necessary for the proper performance of the functions of the Bureau, including whether the information shall have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for Office of Management and Budget (OMB) approval. All comments will become a matter of public record.

Dated: June 26, 2013.
Matthew Burton,
Acting Chief Information Officer, Bureau of Consumer Financial Protection.

[FR Doc. 2013-15853 Filed 7-1-13; 8:45 am]

BILLING CODE 4810-AM-P